DEPARTMENT OF COMMERCE

Minority Business Development Agency

Broad Agency Announcement 2018

AGENCY: Minority Business Development Agency (MBDA), Commerce.

ACTION: Soliciting applications for technical assistance.

SUMMARY: The Minority Business Development Agency's (MBDA) of the Department of Commerce is soliciting volunteers to serve as panelists to review and provide feedback to the 2018 Broad Agency Announcement. Specifically, the panelists will review applications submitted for 14 various projects and initiatives.

DATES: MBDA will be accepting resumes and bios on a rolling basis to the 2018BAA@mbda.gov account through July 16, 2018. MBDA will review and approve reviewers on a first-come, first-served basis.

ADDRESSES: All submissions should be directed to 2018BAA@mbda.gov.

FOR FURTHER INFORMATION CONTACT: Nakita Chambers, Program Manager, MBDA Office of Business Development, telephone: (202) 482-0065. Information about the 2018 Broad Agency Announcement can be obtained electronically via the internet at www.mbda.gov/2018BAA.

SUPPLEMENTARY INFORMATION: MBDA, a bureau of the U.S. Department of Commerce, leads Federal Government efforts to promote the growth and global competitiveness of minority business enterprises (MBEs). MBDA has established key priorities designed to overcome the unique challenges faced by minority business enterprises (MBEs). MBDA is now initiating new approaches to serve MBEs that compliment Presidential priorities and U.S. Department of Commerce goals.

The 2018 Broad Agency Announcement is a mechanism to encourage new activities, education, outreach, innovative projects or sponsorships that are not addressed through other MBDA programs. This program is not a method for awarding congressionally directed funds or existing funded awards. MBDA is authorized pursuant to Executive Order 11625 to defray all or part of the costs of pilot or demonstration projects conducted by public or private agencies or organizations which are designed to overcome the special challenges of minority business enterprises. MBDA will provide Federal assistance to support innovative projects seeking to promote and ensure the inclusion and use of minority enterprises in one or more of the following: (1) Access to capital; (2) American Indian, Alaska Native, and Native Hawaiian project; (3) aquaculture; (4) disaster recovery; (5) disaster readiness; (6) Global Minority Women Economic Empowerment Initiative; (7) Historically Black Colleges and Universities (HBCU) Initiative; (8) an entrepreneurship education program for formerly incarcerated persons; (9) inclusive infrastructure initiative; (10) research; (11) space commerce; (12) a sustainable business model; (13) technology transfer and commercialization; and (14) a virtual business center.

MBDA announced the Federal Funding Opportunity for the 2018 Broad Agency Announcement (BAA) on June 11, 2018, and intends to award funds no later than September 1, 2018. MBDA will receive applications until July 11, 2018 for awards under the 2018 BAA. MBDA will conduct merit review panels from July 16, 2018 through July 31, 2018.

As a reviewer, you will play a critical role in the evaluation of the 2018 BAA applications. Your recommendations will be used by MBDA in determining whether to approve the applications for the initiatives listed above. In order to be a reviewer, you must be an individual with expertise and/or experience in state, local, or federal grants management, private sector business development, minority business development, or any of the 14 categories listed above as initiatives.

All potential reviewers must submit a resume or bio with the information below. Potential reviewers should submit this information to the 2018BAA@mbda.gov email account.

Name.

Residence (city and State).

Email and telephone number.

Last or Current Position (including retired).

Dated: July 3, 2018.
Josephine Arnold,
Chief Counsel, Minority Business Development Agency.

[FR Doc. 2018-14660 Filed 7-6-18; 8:45 am]

BILLING CODE P